DEPARTMENT OF COMMERCE

Patent and Trademark Office

[Docket No. PTO-P-2012-0026]

Cooperative Patent Classification External User Day

AGENCY: United States Patent and Trademark Office, Commerce.

ACTION: Notice.

SUMMARY: The United States Patent and Trademark Office (USPTO) is hosting a Cooperative Patent Classification (CPC) External User Day event at its Alexandria Campus. CPC is a partnership between the USPTO and the European Patent Office (EPO) in which the Offices have agreed to develop a joint patent classification system that will incorporate the best classification practices of the two Offices. This CPC event is the next step, in a series of steps, to be undertaken by the USPTO in educating and informing external stakeholders about the current development and future implementation plans of the CPC.

DATES: The event will be held on Tuesday, July 10, 2012, beginning at 8:30 a.m. Eastern Standard Time (EST), and ending at 12:00 p.m. EST.

ADDRESSES: The event will be held at the USPTO in the Madison Auditorium on the concourse level of the Madison Building located at 600 Dulany Street, Alexandria, Virginia 22314.

For Event Registration: There is no fee to register for the event and registration will be on a first-come, first-serve basis. Early registration is recommended because seating is limited. Registration on the day of the event (July 10, 2012) will be permitted on a space-available basis beginning at 8:30 a.m., Eastern Standard Time.

To register, please provide your name and phone number to CPC_Users_Day@uspto.gov.

FOR FURTHER INFORMATION CONTACT: Derris Banks, Supervisory Patent Examiner, TC 3700, by telephone at (571) 272-4419, or by electronic mail message at derris.banks@uspto.gov, or Linda Dvorak, Supervisory Patent Examiner, TC 3700, by telephone at (571) 272-4764, or by electronic mail message at linda.dvorak@uspto.gov.

SUPPLEMENTARY INFORMATION: Key USPTO executive staff and project managers will brief attendees on a general introduction and overview of the CPC, as well as introduce information concerning external user interaction, accessibility, training and outreach related to the CPC.

The CPC will be a detailed classification system that is International Patent Classification (IPC)-based and will enable patent examiners to efficiently conduct thorough patent searches. CPC will incorporate the best classification practices of both the U.S. and European systems. The USPTO and the EPO also believe that the CPC will enhance efficiency and support work sharing initiatives with a view to reducing unnecessary duplication of work.

For further information about the CPC, please visit www.cpcinfo.org.

Dated: June 19, 2012.
David J. Kappos,
Under Secretary of Commerce for Intellectual Property and Director of the United States Patent and Trademark Office.

[FR Doc. 2012-15447 Filed 6-22-12; 8:45 am]

BILLING CODE 3510-16-P